DEPARTMENT OF THE INTERIOR

National Park Service

National Register of Historic Places; Notification of Pending Nominations and Related Actions

Nominations for the following properties being considered for listing or related actions in the National Register were received by the National Park Service before January 17, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 17, 2009.

J. Paul Loether,
Chief, National Register of Historic Places/National Historic Landmarks Program.

DELAWARE

New Castle County

Carney, John, Agricultural Complex, 4300 Thompson Bridge Rd., Greenville, 09000050

Guest, Joseph W. and Ida, House, 15½ Cragmere Rd., Wilmington, 09000051

Sussex County

Woman's Christian Temperance Union Fountain, Boardwalk at Rehoboth Ave., Rehoboth Beach, 09000052

FLORIDA

Charlotte County

Babcock, Clarence L., House, 25537 Shore Dr., Punta Gorda, 09000053

GEORGIA

Henry County

Lawrenceville Street Historic District, Lawrenceville St. roughly between the Henry County Courthouse square and GA 20, McDonough, 09000054

MASSACHUSETTS

Middlesex County

Coolidge School, 319 Arlington St., Watertown, 09000055

NEW YORK

Erie County

Adam, J.N.—AM&A Historic District, Main St., E. Eagle St., Washington St., Ellicott St., Buffalo, 09000056

Suffolk County

Hopkins, Samuel, House, 415 Pipe Stave Hollow Rd., Miller Place, 09000057

Shelter Island Country Club, 26 Sunnyside Ave., Shelter Island, 09000058

NORTH CAROLINA

Avery County

Crossnore School Historic District, Within the campus of Crossnore School, N. side of NY 1143, opposite junction with NY 1148, Crossnore, 09000059

OREGON

Benton County

Whiteside Theatre, 361 SW. Madison Ave., Corvallis, 09000060

Lane County

Boyer, Clarence and Ethel, House, 1138 E. 22nd Ave., Eugene, 09000061

SOUTH CAROLINA

Richland County

Veterans Hospital, William Jennings Bryan Dorn Veterans Affairs Medical Center, University of South Carolina School of Medicine, Columbia, 09000062

VIRGINIA

Franklin County

Piedmont Mill Historic District, 1709 Alean Rd., Boones Mill, 09000063

Henrico County

Druin-Horner House, 9904 River Rd., Richmond, 09000064

Martinsville Independent City

Dry Bridge School, (Rosenwald Schools in Virginia MPS) 1005 Jordan St., Martinsville, 09000065

Petersburg Independent City

South Chappell Street Car Barn, 124 South Chappell St., Petersburg, 09000066

Request for REMOVAL has been made for the following resource:

SOUTH DAKOTA

Lawrence County

Evans, Robert H., House, 258 Evans La., Spearfish, 91001621

[FR Doc. E9-2144 Filed 1-30-09; 8:45 am]

BILLING CODE 4310-70-P